DEPARTMENT OF HEALTH AND HUMAN SERVICES

National Institutes of Health

National Cancer Institute Amended; Notice of Meeting

Notice is hereby given of a change in the meeting of the National Cancer Institute Clinical Trials and Translational Research Advisory Committee, March 04, 2015, 09:00 a.m. to March 04, 2015, 04:00 p.m., National Institutes of Health, Building 31, C-Wing, 6th Floor, 31 Center Drive, Room 10, Bethesda, MD 20892 which was published in the Federal Register on January 09, 2015, 801428.

The meeting notice is amended to reflect that the meeting will also be available via http://videocast.nih.gov The meeting is open to the public.

Dated: February 9, 2015.
Melanie J. Gray,
Program Analyst, Office of Federal Advisory Committee Policy.

[FR Doc. 2015-02960 Filed 2-11-15; 8:45 am]

BILLING CODE 4140-01-P